DEPARTMENT OF STATE

[Public Notice 4094]

Office of the Coordinator for Counterterrorism; Designation of Foreign Terrorist Organizations

AGENCY: Department of State.

ACTION: Designation of foreign terrorist organizations.

Pursuant to section 219 of the Immigration and Nationality Act (“INA”), as added by the Antiterrorism and Effective Death Penalty Act of 1996, Public Law 104-132, § 302, 110 Stat. 1214, 1248 (1996), and amended by the Illegal Immigration Reform and Immigrant Responsibility Act of 1996, Public Law 104-208, 110 Stat. 3009 (1996), the Secretary of State hereby designates, effective August 9, 2002, the following organization as foreign terrorist organizations:

The Communist Party of the Philippines, also known as the CPP, also known as the New People's Army, also known as the NPA.

Dated: August 2, 2002.
Timothy Egert,
Federal Register Liaison, Department of State.

[FR Doc. 02-20242 Filed 8-8-02; 5:00 pm]

BILLING CODE 4710-10-P